DEPARTMENT OF ENERGY

Energy Information Administration

Agency Information Collection Extension

AGENCY: U.S. Energy Information Administration (EIA), Department of Energy.

ACTION: Notice and Request for OMB Review and Comment.

SUMMARY: The EIA has submitted an information collection request to the Office of Management and Budget (OMB) under the provisions of the Paperwork Reduction Act of 1995. The information collection requests a three-year extension of its Coal Markets Reporting System, OMB Control Number 1905-0167. The surveys encompassed by this request are a fundamental source of data on the Nation's coal production and disposition.

DATES: Comments regarding this proposed information collection must be received on or before June 23, 2017.

ADDRESSES: Written comments should be sent to the:

DOE Desk Officer, Office of Information and Regulatory Affairs, Office of Management and Budget, New Executive Office Building, Room 10102, 735 17th Street NW., Washington, DC 20503, Chad_S_Whiteman@omb.eop.gov.

And to:

Coal2017@eia.gov, or U.S. Energy Information Administration, Mail Stop EI-23, Forrestal Building, 1000 Independence Avenue SW., Washington, DC 20585. (Email is preferred.)

FOR FURTHER INFORMATION CONTACT: Requests for additional information or copies of any forms and instructions should be directed to Coal2017@eia.gov. The proposed forms and instructions are available on the Internet at: http://www. eia.gov/survey/changes/coal/2016/. If you anticipate that you will be submitting comments, but find it difficult to do so within the period of time allowed by this notice, please advise the DOE Desk Officer at OMB of your intention to make a submission as soon as possible. The Desk Officer may be telephoned at 202-395-4718 or contacted by email at Chad_S_Whiteman@omb.eop.gov.

SUPPLEMENTARY INFORMATION: This information collection request contains:

(1) OMB No. 1905-0167;

(2) Information Collection Request Title: Coal Markets Reporting System. The surveys included in this information request are:

EIA-3 “Quarterly Survey of Industrial, Commercial, & Institutional Coal Users”

EIA-7A “Annual Survey of Coal Production and Preparation”

EIA-8A “Annual Survey of Coal Stocks and Coal Exports”

EIA-6 “Emergency Coal Supply Survey (Standby)”

EIA-20 “Emergency Weekly Coal Monitoring Survey for Coal Burning Power Producers (Standby)”

(3) Type of Request: Three-year extension with changes;

(4) Purpose: The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of energy and its interaction with the economy and the environment.

The EIA, as part of its effort to comply with the Paperwork Reduction Act of 1995 (44 U.S.C. 3501, et seq.), provides the general public and other Federal agencies with opportunities to comment on collections of energy information conducted by, or in conjunction with, the EIA.

These EIA surveys are conducted to collect coal market data. The data elements collected include production, consumption, receipts, stocks, sales, and prices. Information pertaining to the quality of the coal is also collected. The information collected is used to support public policy analyses of the coal industry, economic modeling, forecasting, coal supply and demand studies, and support research and development programs. EIA publications, including the Monthly Energy Review, Quarterly Coal Report, Quarterly Coal Distribution Report, Annual Coal Report, and Annual Coal Distribution Report, publish data collected on the coal production and consumption survey forms listed above.

In addition, the EIA uses the data collected in short-term and long-term models such as the Short-Term Integrated Forecasting System (STIFS) and the National Energy Modeling System (NEMS) Coal Market Module. The forecast data also appear in the Short-Term Energy Outlook and the Annual Energy Outlook publications.

Please refer to the forms and instructions for more information about the purpose, who must report, when to report, where to submit, elements to be reported, detailed instructions, provisions for confidentiality, and uses of the information.

EIA-3, Quarterly Survey of Industrial, Commercial, & Institutional Coal Users

Changes to Form EIA-3:

• Change the title of the survey from the “Quarterly Survey of Non-Electric Sector Coal Data” to “Quarterly Survey of Industrial, Commercial, & Institutional Coal Users.”

• In Part 2, Question 6 (Question 5 in the current form), revise reporting for co-fired sites to allow reporting more than one additional fuel source.

• In Part 2, Question 7 (Question 6 in the current form), remove the instruction that refers to “scrubbers” as a carbon dioxide emissions capture system. (A “scrubber” is used to control emissions of sulfur dioxide.)

• In Part 3, Question 2, remove Adjustments to Total Cost of Coal (received during the reporting quarter). Cognitive testing indicated that this data element was unnecessary.

• In Part 5, Questions 2 and 3, revise coking plant disposition categories and include distinction between domestic and export sales of coke and breeze to gather more accurate data on each type of sale.

• In Part 8, Question 2, revise coal refining plant disposition categories to allow for more accurate accounting of refined coal stocks.

• In Part 2, Question 2, add the question: “Does this site operate a coke oven?” This question will be used to identify active U.S. coking plants within manufacturing sites.

• In Part 3, Question 3A, add the question “Please provide the contact information for your broker.” Broker contact information will be used to help maintain the EIA-8A frame and eliminate duplicative reporting on Form EIA-7A.

EIA-7A, Annual Survey of Coal Production and Preparation

Changes to Form EIA-7A:

• In Part 3, Question 5A, add the question “What is the average depth of the mine below the surface?” This question will assist with data discrepancies of coalbed data reported by comparing coalbeds mined with U.S. Geological Survey data.

• In Part 5, revise Question 2, which currently reads “With the existing equipment in place, what is the maximum amount of coal that this mining operation can produce during the reporting year?” to read “With the existing equipment in place, what is the annual operating capacity of this mine?” By comparing actual production to operating capacity, EIA can better assess if mines are producing at maximum capacity and can use this information as an indicator of market conditions affecting coal supply.

• In Part 5, revise Question 5, which currently reads “As of December 31st of the reporting year, what is the estimated tonnage representing the amount of coal identified in the reserve that is technologically and economically feasible to extract?” to read “As of December 31st of the reporting year, what is the estimated amount of coal in the reserve that is feasible (economically/technologically) to extract?” Rewording the current recoverable coal reserves question helps clarify to respondents to report the amount of coal that can be recovered from the coal reserve.

• In Part 5, remove Question 6, which asks “What is the recovery rate used to estimate recoverable coal reserves at this mine?” Cognitive testing indicates that the term “recovery rate” does not have a common understanding by respondents in the coal industry and respondents cannot provide consistent answers to this question.

• In Part 5, Question 7, revise reporting categories of coal mine sales to simplify question wording while adding export categories to include Open Market Export Sales, Captive Market Export Sales, and Broker Export Sales. The new categories will provide more accurate information on coal exports by type of sale and seller by eliminating potential double-counting of export coal sales on Form EIA-8A. This information will improve EIA's assessments of production trends and coal supply and exports by basin.

EIA-8A, Annual Survey of Coal Stocks and Coal Exports

Changes to Form EIA-8A:

• In Part 2, Question 2, revise the list of locations where U.S. produced coal stocks are located to include “IT—In Transit.” This change will provide more accurate information on the quantity and disposition of coal stocks.

• In Part 3, Question 2, add new data field requesting port of export and destination country for export sales to gather more detailed export data. This data field will assist EIA in cross-survey comparisons with the EIA-7A and coal trade data collected by the U.S. Census Bureau to quantify and eliminate double-counting of export coal sales.

EIA is requesting a three-year extension with no changes for the following mandatory emergency standby forms:

Form EIA-6, “Emergency Coal Supply Survey (Standby)”

Form EIA-20, “Emergency Weekly Coal Monitoring Survey for Coal Burning Power Producers (Standby)”

(5) Estimated Number of Survey Respondents: 1,347.

• EIA-3 will consist of 432 respondents

• EIA-7A will consist of 848 respondents

• EIA-8A will consist of 48 respondents

• EIA-6 (standby) will consist of 11 respondents

• EIA-20 (standby) will consist of 8 respondents

(6) Annual Estimated Number of Responses: 2,814.

(7) Annual Estimated Number of Burden Hours: 5,059.

(8) Annual Estimated Reporting and Recordkeeping Cost Burden: Additional costs to respondents are not anticipated beyond costs associated with response burden hours. The information is maintained in the normal course of business. The cost of the burden hours is estimated to be $372,646 (5,059 burden hours times $73.66 per hour). Other than the cost of burden hours, EIA estimates that there are no additional costs for generating, maintaining and providing the information.

Statutory Authority: Section 13(b) of the Federal Energy Administration Act of 1974, P.L. 93-275, codified at 15 U.S.C. 772(b), and the DOE Organization Act of 1977, P.L. 95-91, codified at 42 U.S.C. 7101 et seq.

Issued in Washington, DC, on April 27, 2017.
Nanda Srinivasan,
Director, Office of Survey Development and Statistical Integration, U.S. Energy Information Administration.

[FR Doc. 2017-10632 Filed 5-23-17; 8:45 am]

BILLING CODE 6450-01-P